DEPARTMENT OF JUSTICE

Antritrust Division

Notice Pursuant to the National Cooperative Research and Production Act of 1993—International Magnesium Development Corporation

Notice is hereby given that, on October 23, 2000, pursuant to Section 6(a) of the National Cooperative Research and Production Act of 1993, 15 U.S.C. 4301 et seq. (“the Act”), International Magnesium Development Corporation (“IMDC”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are International Magnesium Development Corporation, McLean, VA; International Magnesium Association, McLean, VA; Alusuisse Technology & Management AG, Neuhausen am Rheinfall, Switzerland; American Tank & Fabricating Co., Cleveland, OH; A/S Metallic, Skive, Denmark; Alabama Cathodic Metals, Gulf Shores, AL; Alcan Aluminium Ltd., Montreal, Quebec, Canada; ALMAMET GmbH, Ainring, Germany, Amalgamet Canada, Toronto, Ontario, Canada; Andreas Stihl AG & Co. Magnesium Druckguss, Prum-Weinsheim, Germany; Asian Metals & Alloys Corp., Wilmington, DE; Australian Magnesium Corp. Pty, Ltd.; Toowong, Queensland, Australia; AVISMA Titanium-Magnesium Works, Berezniki, Perm Region, Russia; Brochot SCS, Trembley en France, France; CE Marshall Ltd., West Midlands, United Kingdom; Chemische Fabrik Malk GmbH, Koln, Germany; Chemetals Inc., Baltimore, MD; Chicago White Metal Casting, Inc., Bensenville, IL; Contech, Division of SPX Corp., Mishawaka, IN; CLD de la MRC de Franchville, Trois-Rivieres, Quebec, Canada, Dead Sea Magnesium Ltd., Beer-Sheva, Israel; Del Mar Die Casting Co., Gardena, CA; Deutsche Ges. F. Materialkunde, Frankfurt, Germany; Druckgusswerk Moessner Gmbh, Munchen, Germany; Dynacast Inc., Yorktown, NY; E.S.M. II Inc., Amherst, NY, Eckart-Werke, Furth, Germany; EFM e.v., Aalen, Germany; Fabryka Akcesoriow Meblowychul, Chelmno, Poland; Ford Motor Co., Dearborn, MI; Frech USA Inc., Michigan City, IN; Fridrich + Pfuderer GmbH, Ludwigsburg, Germany; Electrolux Motor AB, Huskvarna, Sweden; Garfield Alloys Inc., Garfield Heights, OH; Gibbs Die Casting Corp., Henderson, KY; Gjutal AB, Hultsfred, Sweden; GKSS—Forschungszentrum Geesthact Gmbh, Geesthacht, Germany; Grand Xinihua Mg Powder Industrial Co. Ltd., Beijing, Peoples Republic of China; Halaco Engineering Inc., Oxnard, CA; Haley Industries Ltd., Haley, Ontario, Canada; Hatch & Assoc., Buffalo, NY; Hebei Metals & Minerals, Shi Jia Zhuang, Peoples Republic of China; Hochschild Partners, LLC, New York, NY; Honda R & D Company, Ltd., Saitama, Wako-shi, Japan; Honeywell Int'l Inc., Tempe, AZ; Hydro Magnesium, Brussels, Belgium; IMCO Recycling Inc., Irving, TX; IDRA North America, Kokomo, IN; Industrielle Forschungsgruppe Metallspitzguss, Willich, Germany; Ing. Rauch Fertigingstechnik Ges.m.b.H., Gmunden, Austria; InTerMag Technologies, Inc., Sainte-Foy, Quebec, Canada; ISAF, Glausthal-Zellerfeld, Germany; Intermet Corporation, Troy, MI; Injecta Druckguss AG, Teufenthal, Switzerland; Jyskan Metalli Oy, Jyvaskyla, Findland; Laukotter GmbH, Wadersloh, Germany; Lazarus Metal Resources (UK)LTD, London, United Kingdom; Lexington Die Casting, Lakewood, NY; Lhoist Coordination Ctr., Limelette, Belgium; LM Leichtmetall-Systemtechnik GmbH, Fellbach, Germany,; Lite Metals Co., Ravenna, OH; Lunt Manufacturing Co., Inc., Schaumburg, IL; Magcorp, Salt Lake City, UT; Magnesium Aluminum Corp., Cleveland, OH; Magnesium Elektron Ltd., Manchester, United Kingdom; Magnesium Lite Technologi, Budapest, Hungary; Magnesium Products of Italy SPA, Verres, Italy; Magnesium Services (US) Inc., Calgary, Alberta, Canada; Magtrade BV, Amsterdam, Netherlands; Magnesium Technology Ltd., Auckland, New Zealand; Mark Metals Inc., Whittier, CA; Meridian Magnesium, Strathroy, Ontario, Canada; Metallic Alloys SRL, Riese Pio X, Italy; Miller Plating & Metal Finishing, Inc., Evansville, IN; Morimura Brothers, Inc., Tokyo, Japan; Nanjing Welbow Metals Co., Ltd., Nanjing, Jiansu Province, Peoples Republic of China; Nitek Electronic Co. Ltd., City of Industry, CA; Noranda Magnesium Inc., Franklin, TN; Nordiske Industriovner A/S, Stankge, Norway; Northern Diecast Corp., Harbor Springs, MI; Northwest Alloys, Addy, WA; O.Z. S.P.A., Padova, Italy; N.V. NOM/Antheus Magnesium, AK Groningen, Netherlands; Ortal Diecasting Ltd., Kibbutz Neve-ur, Israel; Oskar Frech GmbH & Co., Schorndorf, Germany, Otto Fuchs Metallwerke, Meinerzhagan, Germany; Pansoinco Trading Ltd. (Eire), Lugano, Switzerland; Phillips Plastics Corp., Menomonie, WI; Pechiney Electronmetallurgie, Haute-Garonne Marignac, France; Pierburg AG, Nettetal, Germany; Prince Machine Corp., Holland, MI Pro. Cat. S.C.A.R.L. Bolzano, Italy; Product Technologies Inc., Maple Lake, MN; Reade Manufacturing Co., Lakehurst, NJ; REMACOR, West Pittsburgh, PA; Rheinkalk HDW GmbH, Scharzfeld, Germany; Rossborough Mfg. Co., Avon Lake, OH; RIMA Industrial S/A, Minas Gerais, Brazil; S.A.M. Technologies, Viviez, France; SAMAG Ltd., Steney, NSW, Australia; S.A. Centre for Manufacturing, Woodville, South Australia, Australia; Schmitz + Apelt LOI, Wuppertal, Germany; SGF Mineral, Montreal, Quebec, Canada; SRC/Rossborough Supply Co., Cleveland, OH; Striko/Dynarda Corp., San Leandro, CA; StrikoWestofen GmbH, Mainz-Kastel, Germany; Solikamsk Magnesium Works, Solikamsk, Perm Region, Russia; Spartan Light Metal Products, Sparta, IL; Specialty Metals Company SA, Brussels, Belgium; Spectrulite Consortium Inc., Madison, IL; Sumitomo Sitix of Amagasaki, Inc., Amagasaki, Hyogo, Japan; TCG Unitech AG, Krems, Austria; Technology Applications Group, Grand Forks, ND; Tek Services Pty. Ltd., Brisbane, Queensland, Australia; The Japan Magnesium Assn., Tokyo, Japan; Thixomat, Inc., Ann Arbor, MI; Tojin Corp., Taipei, Taiwan; Timminco Ltd., Haley, Ontario, Canada; Toensberg Presstoperi AS, Horten, Norway; Torunsa, Bergara, Spain; Trimag, Haley Ontario, Canada; Twin City Die Casting Co., Minneapolis, MN; Ube Industries, Ltd., Tokyo, Japan; Volkswagen AG, Wolfsburg, Germany; Von Roll Management AG, Zuerich, Switzerland; W. Pilling Kesselfabrik GmbH & Co., KG, Altena, Germany; Wogen Resources, Ltd., London, United Kingdom; and Zitzmann Druckguss GmbH, Stockheim, Germany.

The nature and objective of the joint venture is the research evaluation and development of possible alternatives to SO2/SF6 magnesium melt protection systems, in an effort to develop an alternative system taking into consideration both economic and environmental factors.

Constance K. Robinson,
Director of Operations, Antitrust Division.

[FR Doc. 00-29983 Filed 11-22-00; 8:45 am]

BILLING CODE 4410-11-M